ENVIRONMENTAL PROTECTION AGENCY

[FRL-9918-06-Region 3]

Adequacy Status of the Submitted Maintenance Plans for the Delaware Portion of the Philadelphia-Wilmington-New Jersey 1997 and 2006 Fine Particulate Matter National Ambient Air Quality Standard Nonattainment Areas for Transportation Conformity Purposes

AGENCY: Environmental Protection Agency (EPA).

ACTION: Notice of adequacy.

SUMMARY: In this notice, EPA is notifying the public that EPA has found that the Motor Vehicle Emissions Budgets (MVEBs) in the Delaware portion of the Philadelphia-Wilmington-New Jersey 1997 and 2006 fine particulate matter (PM2.5) National Ambient Air Quality Standard (NAAQS) Maintenance Plans, submitted as a State Implementation Plan (SIP) revision by the Delaware Department of Natural Resources and Environmental Control (DNREC), are adequate for transportation conformity purposes.

DATE: This is effective on November 3, 2014.

FOR FURTHER INFORMATION CONTACT: Asrah Khadr, Environmental Engineer, Office of Air Program Planning (3AP30), United States Environmental Protection Agency, Region III, 1650 Arch Street, Philadelphia, PA 19103, (215) 814-2071; khadr.asrah@epa.gov.

SUPPLEMENTARY INFORMATION: Today's notice is simply an announcement of a finding that EPA has already made. EPA Region III sent a letter to the DNREC on September 12, 2014 stating that EPA has found that the MVEBs in the Maintenance Plans for budget years 2017 and 2025, submitted on December 12, 2012, are adequate for transportation conformity purposes. As a result of EPA's finding, the State of Delaware must use the 2017 and 2025 MVEBs from the December 12, 2012 Maintenance Plans for future conformity determinations in the Delaware portion of the Philadelphia-Wilmington-New Jersey 1997 PM2.5 NAAQS nonattainment area. Receipt of the submittal was announced on EPA's transportation conformity Web site. No comments were received. The findings letter is available at EPA's conformity Web site: http://www.epa.gov/otaq/stateresources/transconf/adequacy.htm. The adequate direct PM and nitrogen oxides (NOX) MVEBs are provided in Table 1.

Table 1—Delaware Portion of the Philadelphia-Wilmington-New Jersey 1997 and 2006 PM2.5 NAAQS Maintenance Plans MVEBs for Direct PM and NOX
Budget years | Motor vehicle emissions budget for direct PM-tons per year | Mobile vehicle emissions budget for NOX-tons per year
2017 | 199 | 6,273
2025 | 199 | 6,273

Transportation conformity is required by section 176(c) of the Clean Air Act (CAA). EPA's conformity rule requires that transportation plans, transportation improvement programs, and projects conform to SIPs and establishes the criteria and procedures for determining whether or not they do. Conformity to a SIP means that transportation activities will not produce new air quality violations, worsen existing violations, or delay timely attainment of the national ambient air quality standards.

The criteria by which we determine whether a SIP's MVEBs are adequate for conformity purposes are outlined in 40 CFR 93.118(e)(4). EPA described the process for determining the adequacy of submitted SIP budgets in a July 1, 2004 preamble starting at 69 FR 40038 and used the information in these resources in making this adequacy determination. Delaware did not provide emission budgets for sulfur dioxide (SO2), volatile organic compounds (VOCs), or ammonia for the Delaware portion of the Philadelphia-Wilmington-New Jersey nonattainment area because it concluded that emissions of these precursors from motor vehicles are not significant contributors to the area's PM2.5 air quality problem. The transportation conformity rule provision at 40 CFR 93.102(b)(2)(v) indicates that conformity does not apply for these precursors, due to the lack of MVEBs for these precursors and the State's conclusion that motor vehicle emissions of SO2, VOCs, and ammonia do not contribute significantly to the area's PM2.5 nonattainment problem. This provision of the transportation conformity rule predates and was not disturbed by the January 4, 2013 decision in the litigation on the PM2.5 implementation rule.¹ EPA has preliminarily concluded that the State's decision to not include budgets for SO2, VOCs, and ammonia is consistent with the requirements of the transportation conformity rule. That decision does not affect EPA's adequacy finding for the submitted direct PM and NOX MVEBs for the Delaware portion of the Philadelphia-Wilmington-New Jersey nonattainment area.

¹ EPA issued conformity regulations to implement the 1997 PM2.5 NAAQS in July 2004 and May 2005 (69 FR 40004, July 1, 2004 and 70 FR 24280, May 6, 2005, respectively). Those actions were not part of the final rule recently remanded to EPA by the Court of Appeals for the District of Columbia in NRDC v. EPA, No. 08-1250 (Jan. 4, 2013), in which the Court remanded to EPA the implementation rule for the PM2.5 NAAQS because it concluded that EPA must implement that NAAQS pursuant to the PM-specific implementation provisions of subpart 4 of Part D of Title I of the CAA, rather than solely under the general provisions of subpart 1.

Please note that an adequacy review is separate from EPA's SIP review process. The Maintenance Plans containing the 2017 and 2025 MVEBs were approved by EPA on August 5, 2014 (79 FR 45350). The MVEBs have been approved as part of the Delaware SIP, finding the MVEBs adequate makes them available for use for transportation conformity purposes.

Authority: 42 U.S.C. 7401-7671q.

Dated: October 1, 2014.
William C. Early,
Acting Regional Administrator, Region III.

[FR Doc. 2014-24726 Filed 10-16-14; 8:45 am]

BILLING CODE 6560-50-P